DEPARTMENT OF DEFENSE

Department of the Army; Corps of Engineers

Intent To Prepare a Draft Environmental Impact Statement (EIS) for the Installation of a Terminal Groin Structure at Lockwood Folly Inlet and to Conduct Supplemental Beach Nourishment Along the Eastern Oceanfront Shoreline of Holden Beach, in Brunswick County, NC

AGENCY: Department of the Army, U.S. Army Corps of Engineers, DoD.

ACTION: Notice of intent.

SUMMARY: The U.S. Army Corps of Engineers (USACE), Wilmington District, Wilmington Regulatory Field Office has received a request for Department of the Army authorization, pursuant to Section 404 of the Clean Water Act and Section 10 of the Rivers and Harbor Act, from the Town of Holden Beach to develop and implement a shoreline protection plan that includes the installation of a terminal groin structure on the west side of Lockwood Folly Inlet (a federally maintained navigational channel) and the nourishment of the oceanfront shoreline along the eastern end of Holden Beach.

DATES: A public scoping meeting for the Draft EIS will be held at Holden Beach Town Hall, located at 110 Rothschild Street in Holden Beach, on March 8, 2012 at 6 p.m. Written comments will be received until March 26, 2012.

ADDRESSES: Copies of comments and questions regarding scoping of the Draft EIS may be submitted to: U.S. Army Corps of Engineers, Wilmington District, Regulatory Division. ATTN: File Number 2011-01914, 69 Darlington Avenue, Wilmington, NC 28403.

FOR FURTHER INFORMATION CONTACT: Questions about the proposed action and Draft EIS can be directed to Mr. Mickey Sugg, Project Manager, Wilmington Regulatory Field Office, telephone: (910) 251-4811. Additional description of the Town's proposal can be found at the following link, http://www.saw.usace.army.mil/WETLANDS/Projects/index.html, under Holden Beach Terminal Groin and Nourishment Project.

SUPPLEMENTARY INFORMATION: 1. Project Description. Over the past decades, the eastern end of Holden Beach has experienced consistent and relatively severe erosional conditions along the oceanfront shoreline and primary dune system. As a result of chronic erosion, the Town has implemented, typically in coordination with the U.S. Corps of Engineers federal channel maintenance dredging, periodic beach nourishment activities within this eastern stretch and near the inlet. These measures have been short-term in nature; and it is the Town's desire to implement a long-term beach and dune stabilization strategy. As stated by the Town, this strategy would help protect public and private infrastructure from future storms. Their proposal includes constructing a terminal groin near the Lockwood Folly Inlet (western side) and conducting supplemental sand placement along the eastern end of the island. Final locations and placement of sand will be determined during the project design process. For the groin structure, final location and design has yet to be determined. No groin structure is proposed on the opposite, or eastern, side of Lockwood Folly Inlet.

2. Issues. There are several potential environmental and public interest issues that will be addressed in the EIS. Additional issues may be identified during the scoping process. Issues initially identified as potentially significant include:

a. Potential impacts to marine biological resources (benthic organisms, passageway for fish and other marine life) and Essential Fish Habitat.

b. Potential impacts to threatened and endangered marine mammals, birds, fish, and plants.

c. Potential impacts associated with using inlets as a sand source.

d. Potential impacts to adjacent shoreline changes on the east side Lockwood Folly Inlet, or along the Town of Oak Island.

e. Potential impacts to Navigation, commercial and recreational.

f. Potential impacts to the long-term management of the inlet and oceanfront shorelines.

g. Potential effects on regional sand sources and how it relates to sand management practices and North Carolina's Beach Inlet Management Practices.

h. Potential effects of shoreline protection.

i. Potential impacts on public health and safety.

k. Potential impacts to recreational and commercial fishing.

l. The compatibility of the material for nourishment.

m. Potential impacts to cultural resources.

n. Cumulative impacts of past, present, and foreseeable future dredging and nourishment activities.

3. Alternatives. Several alternatives and sand sources are being considered for the development of the protection plan. These alternatives will be further formulated and developed during the scoping process and an appropriate range of alternatives, including the no federal action alternative, will be considered in the EIS.

4. Scoping Process. A public scoping meeting (see DATES) will be held to receive public comment and assess public concerns regarding the appropriate scope and preparation of the Draft EIS. Participation in the public meeting by federal, state, and local agencies and other interested organizations and persons is encouraged.

The USACE will consult with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. Additionally, the USACE will coordinate the Draft EIS with the North Carolina Division of Water Quality (NCDWQ) to assess the potential water quality impacts pursuant to Section 401 of the Clean Water Act, and with the North Carolina Division of Coastal Management (NCDCM) to determine the projects consistency with the Coastal Zone Management Act. The USACE will closely work with NCDCM and NCDWQ in the development of the EIS to ensure the process complies with all State Environmental Policy Act (SEPA) requirements. It is the intention of both the USACE and the State of North Carolina to consolidate the NEPA and SEPA processes thereby eliminating duplication.

6. Availability of the Draft PEIS. The Draft EIS is expected to be published and circulated by early 2013. A public hearing will be held after the publication of the Draft EIS.

Dated: February 14, 2012.
S. Kenneth Jolly,
Chief, Regulatory Division.

[FR Doc. 2012-4305 Filed 2-23-12; 8:45 am]

BILLING CODE 3720-58-P